AGENCY FOR INTERNATIONAL DEVELOPMENT

Draft Report on Information Quality Guidelines

AGENCY: U.S. Agency for International Development (USAID)

ACTION: Notice.

SUMMARY: USAID's draft Report on Information Quality Guidelines (Report) is available for public comment on the USAID homepage: http://www.usaid.gov/about/info_quality/.

DATES: Please submit comments on or before May 31, 2002.

ADDRESSES: You may submit your comments directly from the above Web site. You may also mail written comments to Margaret Alter Miller, M/AA, 6.12-036 RRB, USAID, 1300 Pennsylvania Avenue, NW., Washington, DC 20523-7600 or email her at mamiller@usaid.gov.

FOR FURTHER INFORMATION CONTACT: Margaret Alter Miller; telephone 202-712-1054; telefax (202) 216 -3053; email mamiller@usaid.gov.

SUPPLEMENTARY INFORMATION: Pursuant to OMB Guidelines for Ensuring and Maximizing the Quality, Objectivity, Utility and Integrity of Information Disseminated by Federal Agencies, USAID has prepared a draft Report and has posted it on its website for public comment.

Dated: April 25, 2002.
Richard C. Nygard,
Deputy CIO for Policy.

[FR Doc. 02-10699 Filed 4-30-02; 8:45 am]

BILLING CODE 6116-01-P